DEPARTMENT OF COMMERCE

International Trade Administration

[A-570-912]

Certain New Pneumatic Off-the-Road Tires From the People's Republic of China: Notice of Partial Rescission of Antidumping Duty Administrative Review

AGENCY: Import Administration, International Trade Administration, Department of Commerce.

DATES: Effective Date: March 18, 2011.

FOR FURTHER INFORMATION CONTACT: Raquel Silva or Frances Veith, AD/CVD Operations, Office 8, Import Administration, International Trade Administration, U.S. Department of Commerce, 14th Street and Constitution Avenue, NW., Washington, DC 20230; telephone: (202) 482-6475 or (202) 482-4295, respectively.

Background

On September 1, 2010, the Department of Commerce (“the Department”) published a notice of opportunity to request an administrative review of the antidumping duty order on certain new pneumatic off-the-road tires (“OTR tires”) from the People's Republic of China (“PRC”) for the period of review (“POR”) September 1, 2009, through August 31, 2010. See Antidumping or Countervailing Duty Order, Finding, or Suspended Investigation; Opportunity to Request Administrative Review, 75 FR 53635 (September 1, 2010). On September 17, 2010, Mai Shandong Radial Tyre Co., Ltd. (“Mai Shandong”) an exporter of subject merchandise, requested that the Department conduct an administrative review of its exports to the United States during the POR. On September 27, 2010, Qingdao Free Trade Zone Full World International Trading Co., Ltd. (“Full World”), an exporter of subject merchandise, also requested a review of its own exports. On September 30, 2010, Bridgestone Americas, Inc. and Bridgestone Americas Tire Operations, LLC (collectively “Bridgestone”), a domestic interested party to the proceeding, requested that the Department conduct an administrative review of OTR tire exports from the following entities: (1) Hangzhou Zhongce Rubber Co., Ltd. (“Hangzhou Zhongce”), (2) Hebei Starbright Tire Co., Ltd. (“Starbright”), (3) KS Holding Limited/KS Resources Limited (“KS Holding”), (4) Laizhou Xiongying Rubber Industry Co., Ltd. (“Laizhou Xiongying”), (5) Qingdao Taifa Group Co., Ltd. (“Qingdao Taifa”), (6) Tianjin United Tire & Rubber International Co., Ltd. (“TUTRIC”), and (7) Weihai Zhongwei Rubber Co., Ltd. (“Weihai Zhongwei”). On September 30, 2011, Guizhou Tyre Co., Ltd., Guizhou Advance Rubber Co., Ltd. and Guizhou Tyre Import and Export Corporation (collectively, “GTC”) requested an administrative review of its own OTR tire exports. The Department then published in the Federal Register the initiation notice for the antidumping duty administrative review of OTR tires from the PRC for the 2009-2010 POR. See Initiation of Antidumping and Countervailing Duty Administrative Reviews, 75 FR 66349 (October 28, 2010).

Partial Rescission of Review

Pursuant to 19 CFR 351.213(d)(1), the Secretary will rescind an administrative review, in whole or in part, if the party that requested the review withdraws the request within 90 days of the date of publication of the notice of initiation of the requested review. The Secretary may also extend this time limit if the Secretary decides that it is reasonable to do so. On November 15, 2010, GTC timely withdrew its request for a review of its exports. On January 24, 2011, Full World timely withdrew its request for a review of its exports. On January 26, 2011, Bridgestone timely withdrew its request for review of Starbright, Hangzhou Zhongce, KS Holding, Laizhou Xiongying, and Qingdao Taifa.

On February 17, 2011, Mai Shandong withdrew its request for a review of its exports. Although the deadline to withdraw requests for review was January 26, 2011, the Department notes that this administrative review remains in its early stages, and significant resources have not yet been expended on this review as a whole. Therefore, the Department is accepting Mai Shandong's withdrawal.

Because no additional party requested a review of GTC, Starbright, Hangzhou Zhongce, KS Holding, Laizhou Xiongying, Qingdao Taifa, Full World, and Mai Shandong, the Department hereby rescinds the administrative review of OTR tires with respect to these entities in accordance with 19 CFR 351.213(d)(1). This administrative review will continue with respect to TUTRIC and Weihai Zhongwei because requests for review of these companies remain.

Assessment Rates

The Department will instruct U.S. Customs and Border Protection (“CBP”) to assess antidumping duties on all appropriate entries. For GTC, Starbright, KS Holding, Laizhou Xiongying, and Full World, which each had previously established eligibility for a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Because Hangzhou Zhongce, Qingdao Taifa, and Mai Shandong remain part of the PRC entity, their respective entries may be under review in the ongoing administrative review. Accordingly, the Department will not order liquidation of entries for Hangzhou Zhongce, Qingdao Taifa, or Mai Shandong. The Department intends to issue assessment instructions for the PRC entity, which will cover any entries by Hangzhou Zhongce, Qingdao Taifa, and Mai Shandong, 15 days after publication of the final results of the ongoing administrative review.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice is issued and published in accordance with section 777(i) of the Tariff Act of 1930, as amended, and 19 CFR 351.213(d)(4).

Dated: March 14, 2011.
Christian Marsh,
Deputy Assistant Secretary for Antidumping and Countervailing Duty Operations.

[FR Doc. 2011-6456 Filed 3-17-11; 8:45 am]

BILLING CODE 3510-DS-P